DEPARTMENT OF COMMERCE

International Trade Administration

(A-489-807)

Certain Steel Concrete Reinforcing Bars from Turkey: Notice of Amended Final Results Pursuant to Court Decision

AGENCY: Import Administration, International Trade Administration, Department of Commerce.

SUMMARY: On April 12, 2010, the United States Court of Appeals for the Federal Circuit (CAFC) upheld the final redetermination made by the Department of Commerce (the Department) in the 2005-2006 administrative review of certain steel concrete reinforcing bars (rebar) from Turkey. See Nucor Corporation, Gerdau Ameristeel, Inc., and Commercial Metals Company vs. United States, Case No. 07-00457, United States Court of Appeal for the Federal Circuit, (April 12, 2010) (CAFC Decision). In this redetermination, the Department recalculated the cost of production for rebar produced and sold by Ekinciler Demir ve Celik Sanayi A.S. and Ekinciler Dis Ticaret A.S. (collectively, “Ekinciler”), a Turkish producer/exporter of subject merchandise, to exclude depreciation which the Department had imputed to an asset reported in Ekinciler books and records. Because all litigation in this matter has now concluded, the Department is issuing its amended final results in accordance with the CAFC's decision.

EFFECTIVE DATE: August 5, 2010.

FOR FURTHER INFORMATION CONTACT: Elizabeth Eastwood, AD/CVD Operations, Office 2, Import Administration International Trade Administration, U.S. Department of Commerce, 14th Street and Constitution Avenue, NW, Washington, DC, 20230; telephone (202) 482-3874.

SUPPLEMENTARY INFORMATION:

Background

On November 6, 2007, the Department published its final results in the antidumping duty administrative review of rebar from Turkey covering the period of review from April 1, 2005, through March 31, 2006. See Certain Steel Concrete Reinforcing Bars From Turkey; Final Results of Antidumping Duty Administrative Review and New Shipper Review and Determination To Revoke in Part, 72 FR 62630 (Nov. 6, 2007) (Final Results). In November 2007, Ekinciler contested the Department's decision to impute an amount for depreciation related to an asset listed as “melt shop modernization” in Ekinciler's books and records, as had been done in prior segments of the proceeding. Ekinciler claimed that to avoid financial difficulties it had recorded expenses pertaining to foreign exchange gains and losses incurred in 2001 not as expenses in its books and records, but as an asset. Ekinciler alleged that these expenses, in fact, had nothing to do with the modernization of its melt shop facility and, therefore, the Department could not depreciate this amount.

On April 14, 2009, the Court of International Trade (CIT) determined that the Department's Final Results were not supported by substantial evidence on the record and remanded the issue of the imputed depreciation calculated for Ekinciler to the Department. See Nucor Corporation, Gerdau Ameristeel Corporation, and Commercial Metals Company v. United States, Court No. 07-00457 (Apr. 14, 2009) (Nucor).

On May 14, 2009, the Department issued its final results of redetermination pursuant to Nucor. The remand redetermination explained that, in accordance with the CIT's instructions, the Department recalculated the cost of production for Ekinciler, excluding the depreciation imputed on Ekinciler's reported melt shop modernization asset.

On May 22, 2009, the CIT found that the Department complied with the remand order and sustained the Department's remand redetermination. See Nucor Corporation, Gerdau Ameristeel, Inc., and Commercial Metals Company v. United States, Slip Op. 09-50 (May 22, 2009). On June 5, 2009, consistent with the decision of the CAFC in Timken Co. v. United States, 893 F.2d 337 (Fed. Cir. 1990), the Department notified the public that the CIT's decision was “not in harmony” with the Department's November 2007 Final Results. See Certain Steel Concrete Reinforcing Bars from Turkey: Notice of Court Decision Not in Harmony with Final Results of Administrative Review, 74 FR 27016 (June 5, 2009).

The domestic rebar industry appealed the CIT's decision. On April 12, 2010, the CAFC sustained the final redetermination made by the Department pursuant to the CIT's remand. See CAFC Decision. No party appealed the CAFC's decision. Because there is now a final and conclusive decision in the Court proceeding, we are issuing amended final results to reflect the results of the remand determination.

Amended Final Results of Review

We are amending the final results of the 2005-2006 administrative review on the antidumping duty order on rebar from Turkey to reflect a revised weighted-average margin of 0.11 percent for Ekinciler for the period April 1, 2005, through March 31, 2006.

Assessment

The Department shall determine, and U.S. Customs and Border Protection (CBP) shall assess, antidumping duties on all appropriate entries.

Pursuant to 19 CFR 351.106(c)(2), we will instruct CBP to liquidate without regard to antidumping duties any entries for which the assessment rate is de minimis (i.e., less than 0.50 percent). The Department will issue appraisement instructions directly to CBP.

This notice is issued and published in accordance with sections 751(a)(1) and 777(i)(1) of the Tariff Act of 1930, as amended.

Dated: July 29, 2010.
Paul Piquado,
Acting Deputy Assistant Secretary for Import Administration.

[FR Doc. 2010-19288 Filed 8-4-10; 8:45 am]

BILLING CODE 3510-DS-S